DEPARTMENT OF COMMERCE

National Oceanic and Atmospheric Administration

50 CFR Part 660

[Docket No. 210505-0101; RTID 0648-XB472]

Fisheries Off West Coast States; Modification of the West Coast Salmon Fisheries; Inseason Actions #31 Through #32

AGENCY: National Marine Fisheries Service (NMFS), National Oceanic and Atmospheric Administration (NOAA), Commerce.

ACTION: Inseason modification of 2021 management measures.

SUMMARY: NMFS announces two inseason actions in the 2021 ocean salmon fisheries. These inseason actions modified the recreational ocean salmon fishery in the area from Cape Falcon, OR to the Oregon/California border.

DATES: The effective dates for the inseason actions are set out in this document under the heading Inseason Actions and the actions remain in effect until superseded or modified.

FOR FURTHER INFORMATION CONTACT: Shannon Penna at 562-676-2148, Email: shannon.penna@noaa.gov.

SUPPLEMENTARY INFORMATION:

Background

The 2021 annual management measures for ocean salmon fisheries (86 FR 26425, May 14, 2021), announced management measures for the commercial and recreational fisheries in the area from the U.S./Canada border to the U.S./Mexico border, effective from 0001 hours Pacific Daylight Time (PDT), May 16, 2021, until the effective date of the 2022 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: North of Cape Falcon (NOF) (U.S./Canada border to Cape Falcon, OR), and south of Cape Falcon (SOF) (Cape Falcon, OR, to the U.S./Mexico border). The actions described in this document affected the SOF recreational salmon fishery, as set out under the heading Inseason Action.

Consultation on these inseason actions occurred on September 14, 2021. Representatives from NMFS, Oregon Department of Fish and Wildlife (ODFW), California Department of Fish and Wildlife (CDFW), and Council staff participated in the consultations.

These inseason actions were announced on NMFS' telephone hotline and U.S. Coast Guard radio broadcast on the date of the consultations (50 CFR 660.411(a)(2)).

Inseason Action

Inseason Action #31

Description of the action: Inseason action #31 modified the SOF recreational salmon fishery from the Cape Falcon, OR to Humbug Mountain, OR. This action increased the non-mark selective coho salmon quota in the September recreational salmon fishery from 14,000 to 20,230 through an impact-neutral rollover of unused quota from the June-August mark selective coho salmon recreational fishery in the area from Cape Falcon, OR to the Oregon/California border.

Effective date: Inseason action #31 took effect on September 14, 2021 and remains in effect until superseded.

Reason and authorization for the action: Authority for this impact-neutral rollover of unutilized quota is specified in the 2021 ocean salmon regulations (86 FR 26425, May 14, 2021). The SOF June-August mark selective coho salmon recreational fishery had a quota of 120,000 marked coho salmon. Of that quota, 68,276 coho salmon were landed, leaving 51,724 coho salmon quota unutilized for the June-August period. The Council's Salmon Technical Team (STT) determined that to keep fishery impacts on Oregon Coastal natural coho salmon (OCN coho) within the level of impacts described in the preseason planning process, due to seasonal differences in impact rates to OCN coho salmon, only 6,230 coho salmon from the unutilized June-August quota could be rolled over in an impact-neutral manner. The STT calculated that an impact-neutral rollover would add 6,230 coho salmon from the June-August period to the September non-selective coho salmon fishery quota of 14,000 for an adjusted quota of 20,230 coho salmon. This action did not increase the overall 2021 coho salmon quota in the SOF recreational fishery. The West Coast Region Regional Administer (RA) considered the landings of coho salmon to date, fishery catch and effort to date, the amount of quota remaining, and the timing of the action relative to the length of the season, and determined that this inseason action was necessary to meet management goals set preseason. Inseason action to modify quotas and/or fishing seasons is authorized by 50 CFR 660.409(b)(1)(i).

Consultation date and participants: Consultation on inseason action #31 occurred on September 14, 2021. Representatives from NMFS, CDFW, ODFW, and the Council participated in this consultation.

Inseason Action #32

Description of the action: Inseason action #32 modified the recreational fishery open fishing period by increasing the days open from Cape Falcon, OR to Humbug Mountain, OR. Effective September 17, 2021 at 12:01 a.m., the recreational ocean salmon fishery from Cape Falcon, OR to Humbug Mountain, OR will be open to fishing seven days per week through the earlier of September 30, 2021, or attaining the 20,230 non-mark selective coho salmon quota.

Effective date: Inseason #32 took effect on September 17, 2021, and remains in effect until superseded.

Reason and authorization for the action: The purpose of inseason #32 was to allow greater access to available non-mark selective coho salmon quota in the recreational fishery. Prior to this action, the September recreational ocean salmon fishery in the area from Cape Falcon, OR to Humbug Mountain, OR was scheduled to be open Friday through Sunday through the earlier of September 30, or attaining a 14,000 non-mark selective coho salmon quota. Inseason action #31, above, increased the coho salmon quota in this fishery to 20,230 coho salmon. ODFW reviewed the harvest estimates from the open fishing period and recommended that adding additional days to the open fishing period would provide more fishing opportunity and was unlikely to result in early attainment of the non-mark selective coho salmon quota.

The RA considered coho salmon landings and fishery catch and effort to date in the SOF area from Cape Falcon, OR to Humbug Mountain, OR, and determined that this inseason action was necessary to meet management objectives set preseason. Inseason modification of recreational fishing days per calendar week is authorized by 50 CFR 660.409(b)(1)(i) and (iii).

Consultation date and participants: Consultation on inseason action #32 occurred on September 14, 2021. Representatives from NMFS, CDFW, ODFW, and the Council participated in this consultation.

All other restrictions and regulations remain in effect as announced for the 2021 ocean salmon fisheries (86 FR 26425, May 14, 2021), as modified by previous inseason action (86 FR 34161, June 29, 2021; 86 FR 37249, July 15, 2021; 86 FR 40182, July 28, 2021; 86 FR 43967, August 11, 2021; 86 FR 48343, August 30, 2021; 86 FR 54407, October 1, 2021).

The NMFS West Coast Region RA determined that these inseason actions were warranted based on the best available information on Pacific salmon abundance forecasts, landings to date, anticipated fishery effort and projected catch, and the other factors and considerations set forth in 50 CFR 660.409. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kilohertz.

Classification

NMFS issues this action pursuant to section 305(d) of the Magnuson-Stevens Fishery Conservation and Management Act (MSA). This action is authorized by 50 CFR 660.409, which was issued pursuant to section 304(b) of the MSA, and is exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time coho salmon abundance, catch, and effort information were developed and fisheries impacts were calculated, and the time the fishery modifications had to be implemented in order to ensure that fisheries are managed based on the best scientific information available and that fishery participants can take advantage of the additional fishing opportunity these changes provide. As previously noted, actual notice of the regulatory action was provided to fishers through telephone hotline and radio notification. This action complies with the requirements of the annual management measures for ocean salmon fisheries (86 FR 26425, May 14, 2021), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: November 12, 2021.
Michael Ruccio,
Acting Director, Office of Sustainable Fisheries, National Marine Fisheries Service.

[FR Doc. 2021-25102 Filed 11-16-21; 8:45 am]

BILLING CODE 3510-22-P